DEPARTMENT OF TRANSPORTATION

Federal Aviation Administration

14 CFR Part 97

[Docket No. 31299; Amdt. No. 3894]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective March 5, 2020. The compliance date for each SIAP, associated Takeoff Minimums, and ODP is specified in the amendatory provisions.

The incorporation by reference of certain publications listed in the regulations is approved by the Director of the Federal Register as of March 5, 2020.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, email fedreg.legal@nara.gov or go to: https://www.archives.gov/federal-register/cfr/ibr-locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866;(2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on February 21, 2020.
Rick Domingo,
Executive Director, Flight Standards Service.

Adoption Of The Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
26-Mar-20 | NC | Greensboro | Piedmont Triad Intl | 9/2114 | 1/17/20 | This NOTAM, published in Docket No. 31297, Amdt No. 3892, TL 20-07 (85 FR 10270; February 24, 2020), is hereby rescinded in its entirety.
26-Mar-20 | ME | Sanford | Sanford Seacoast Rgnl | 0/0536 | 2/4/20 | RNAV (GPS) RWY 25, Orig-B.
26-Mar-20 | ME | Sanford | Sanford Seacoast Rgnl | 0/0537 | 2/4/20 | RNAV (GPS) RWY 32, Orig-A.
26-Mar-20 | ME | Sanford | Sanford Seacoast Rgnl | 0/0538 | 2/4/20 | RNAV (GPS) RWY 7, Orig-C.
26-Mar-20 | ME | Sanford | Sanford Seacoast Rgnl | 0/0539 | 2/4/20 | VOR RWY 25, Amdt 14B.
26-Mar-20 | TX | Angleton/Lake Jackson | Texas Gulf Coast Rgnl | 0/0544 | 2/4/20 | RNAV (GPS) RWY 17, Amdt 2A.
26-Mar-20 | TX | Angleton/Lake Jackson | Texas Gulf Coast Rgnl | 0/0545 | 2/4/20 | RNAV (GPS) RWY 35, Amdt 2A.
26-Mar-20 | OK | Tulsa | Richard Lloyd Jones Jr | 0/0581 | 2/4/20 | VOR/DME-A, Amdt 7A.
26-Mar-20 | ND | Grand Forks | Grand Forks Intl | 0/2419 | 2/11/20 | RNAV (GPS) RWY 35L, Orig-B.
26-Mar-20 | OK | Okmulgee | Okmulgee Rgnl | 0/3051 | 2/11/20 | RNAV (GPS) RWY 36, Orig.
26-Mar-20 | OK | Okmulgee | Okmulgee Rgnl | 0/3052 | 2/11/20 | ILS OR LOC RWY 18, Amdt 1B.
26-Mar-20 | OK | Okmulgee | Okmulgee Rgnl | 0/3053 | 2/11/20 | RNAV (GPS) RWY 18, Amdt 1.
26-Mar-20 | OK | Okmulgee | Okmulgee Rgnl | 0/3056 | 2/11/20 | VOR-A, Amdt 1.
26-Mar-20 | MN | Staples | Staples Muni | 0/3087 | 2/11/20 | NDB RWY 14, Amdt 3A.
26-Mar-20 | MI | Hastings | Hastings | 0/3088 | 2/11/20 | VOR RWY 12, Orig-G.
26-Mar-20 | TX | Granbury | Granbury Rgnl | 0/3089 | 2/11/20 | VOR/DME RWY 14, Amdt 1A.
26-Mar-20 | VA | Charlottesville | Charlottesville-Albemarle | 0/3090 | 2/11/20 | RNAV (GPS) Y RWY 21, Amdt 2B.
26-Mar-20 | MO | Fredericktown | A Paul Vance Fredericktown Rgnl | 0/3093 | 2/11/20 | VOR/DME RWY 1, Amdt 3A.
26-Mar-20 | MO | Fredericktown | A Paul Vance Fredericktown Rgnl | 0/3094 | 2/11/20 | VOR RWY 19, Amdt 1B.
26-Mar-20 | VA | Hot Springs | Ingalls Field | 0/3317 | 2/14/20 | RNAV (GPS) RWY 25, Orig.
26-Mar-20 | VA | Hot Springs | Ingalls Field | 0/3318 | 2/14/20 | RNAV (GPS) RWY 7, Orig.
26-Mar-20 | TX | Dallas-Fort Worth | Dallas-Fort Worth Intl | 0/3356 | 2/12/20 | ILS OR LOC RWY 17R, Amdt 23C.
26-Mar-20 | NM | Deming | Deming Muni | 0/3465 | 1/16/20 | VOR RWY 26, Amdt 10A.
26-Mar-20 | NE | York | York Muni | 0/3638 | 1/17/20 | RNAV (GPS) RWY 35, Amdt 1.
26-Mar-20 | MN | Minneapolis | Airlake | 0/3905 | 2/12/20 | VOR RWY 12, Amdt 3.
26-Mar-20 | WI | Appleton | Appleton Intl | 0/3911 | 2/12/20 | RNAV (GPS) RWY 12, Amdt 1A.
26-Mar-20 | WI | Appleton | Appleton Intl | 0/3912 | 2/12/20 | RNAV (GPS) RWY 3, Amdt 1A.
26-Mar-20 | WI | Appleton | Appleton Intl | 0/3916 | 2/12/20 | RNAV (GPS) RWY 21, Amdt 2A.
26-Mar-20 | NC | Greensboro | Piedmont Triad Intl | 0/4152 | 2/12/20 | ILS OR LOC RWY 23L, Amdt 9C.
26-Mar-20 | MI | Saginaw | Saginaw County H W Browne | 0/4286 | 2/12/20 | RNAV (GPS) RWY 10, Amdt 1.
26-Mar-20 | PA | Washington | Washington County | 0/4320 | 2/13/20 | ILS OR LOC RWY 27, Amdt 1B.
26-Mar-20 | OH | Millersburg | Holmes County | 0/4324 | 2/12/20 | RNAV (GPS) RWY 9, Orig-A.
26-Mar-20 | OH | Millersburg | Holmes County | 0/4342 | 2/12/20 | RNAV (GPS) RWY 27, Orig-A.
26-Mar-20 | FL | Orlando | Orlando Sanford Intl | 0/4707 | 2/13/20 | ILS OR LOC RWY 9R, Amdt 1B.
26-Mar-20 | GA | Atlanta | Hartsfield—Jackson Atlanta Intl | 0/6301 | 1/27/20 | ILS OR LOC RWY 9L, Amdt 10B.
26-Mar-20 | GA | Atlanta | Hartsfield—Jackson Atlanta Intl | 0/6306 | 1/27/20 | RNAV (GPS) PRM RWY 9L (SIMULTANEOUS CLOSE PARALLEL), Orig-D.
26-Mar-20 | GA | Atlanta | Hartsfield—Jackson Atlanta Intl | 0/6315 | 1/27/20 | RNAV (GPS) RWY 09L, Amdt 4C.
26-Mar-20 | GA | Atlanta | Hartsfield—Jackson Atlanta Intl | 0/6317 | 1/27/20 | ILS PRM RWY 9L (SIMULTANEOUS CLOSE PARALLEL), Amdt 2.
26-Mar-20 | WA | Seattle | Boeing Field/King County Intl | 0/6509 | 2/3/20 | ILS OR LOC RWY 14R, Amdt 31.
26-Mar-20 | MA | Worcester | Worcester Rgnl | 0/6960 | 2/7/20 | VOR/DME RWY 33, Amdt 1B.
26-Mar-20 | CA | Ontario | Ontario Intl | 0/7324 | 2/3/20 | ILS OR LOC RWY 26L, ILS RWY 26L (CAT II), ILS RWY 26L (CAT III), Amdt 8B.
26-Mar-20 | OH | Youngstown/Warren | Youngstown-Warren Rgnl | 0/8835 | 2/6/20 | ILS OR LOC RWY 14, Amdt 8C.
26-Mar-20 | OH | Youngstown/Warren | Youngstown-Warren Rgnl | 0/8836 | 2/6/20 | ILS OR LOC RWY 32, Amdt 27C.
26-Mar-20 | OH | Youngstown/Warren | Youngstown-Warren Rgnl | 0/8837 | 2/6/20 | NDB RWY 32, Amdt 20C.
26-Mar-20 | OH | Youngstown/Warren | Youngstown-Warren Rgnl | 0/8838 | 2/6/20 | RNAV (GPS) RWY 14, Orig-B.
26-Mar-20 | OH | Youngstown/Warren | Youngstown-Warren Rgnl | 0/8839 | 2/6/20 | RNAV (GPS) RWY 32, Orig-D.
26-Mar-20 | AL | Brewton | Brewton Muni | 0/8854 | 2/10/20 | RNAV (GPS) RWY 12, Orig-A.
26-Mar-20 | AL | Brewton | Brewton Muni | 0/8855 | 2/10/20 | RNAV (GPS) RWY 30, Orig-A.
26-Mar-20 | AL | Brewton | Brewton Muni | 0/8856 | 2/10/20 | VOR/DME RWY 30, Amdt 8.
26-Mar-20 | FL | Titusville | Arthur Dunn Air Park | 0/8867 | 2/6/20 | RNAV (GPS)-A, Orig-A.
26-Mar-20 | FL | Titusville | Arthur Dunn Air Park | 0/8868 | 2/6/20 | RNAV (GPS)-B, Orig-A.
26-Mar-20 | NY | New York | John F Kennedy Intl | 0/8874 | 2/7/20 | RNAV (RNP) Z RWY 31R, Amdt 1A.
26-Mar-20 | FL | Bonifay | Tri-County | 0/8877 | 2/6/20 | RNAV (GPS) RWY 19, Orig-B.
26-Mar-20 | TX | Denton | Denton Enterprise | 0/8892 | 2/6/20 | RNAV (GPS) RWY 36, Amdt 2B.
26-Mar-20 | AZ | Tucson | Tucson Intl | 0/8926 | 2/3/20 | RNAV (GPS) RWY 11R, Orig-C.
26-Mar-20 | AZ | Tucson | Tucson Intl | 0/9081 | 2/3/20 | ILS OR LOC RWY 11L, Amdt 14B.
26-Mar-20 | OR | Grants Pass | Grants Pass | 0/9185 | 2/7/20 | RNAV (GPS)-A, Orig.
26-Mar-20 | ND | Grand Forks | Grand Forks Intl | 0/9985 | 2/11/20 | VOR RWY 17R, Amdt 6A.
26-Mar-20 | CA | Sacramento | Sacramento Mather | 9/4931 | 2/6/20 | ILS OR LOC RWY 22L (SA CAT I), ILS RWY 22L (SA CAT II), Amdt 7.
26-Mar-20 | IN | Indianapolis | Indianapolis Intl | 9/4955 | 1/28/20 | ILS OR LOC RWY 5R, ILS RWY 5R (SA CAT I), ILS RWY 5R (CAT II), ILS RWY 5R (CAT III), Amdt 7.
26-Mar-20 | IN | Indianapolis | Indianapolis Intl | 9/4956 | 1/28/20 | RNAV (RNP) Z RWY 23L, Amdt 2.
26-Mar-20 | IN | Columbus | Columbus Muni | 9/9469 | 1/21/20 | ILS OR LOC RWY 23, Amdt 8.

[FR Doc. 2020-04175 Filed 3-4-20; 8:45 am]

BILLING CODE 4910-13-P